DEPARTMENT OF LABOR

Employment and Training Administration

[TA-W-61,324]

Ford Motor Company Vehicle Operations Division, Wixom Assembly Plant, Wixom, MI; Notice of Revised Determination on Reconsideration

On July 10, 2007, the Department issued an Affirmative Determination Regarding Application on Reconsideration applicable to workers and former workers of the subject firm. The notice was published in the Federal Register on July 17, 2007 (72 FR 39078).

The previous investigation initiated on April 18, 2007, resulting in a negative determination issued on May 7, 2007, was based on the finding that imports of vehicles like or directly competitive with the Lincoln Towncar did not contribute importantly to worker separations at the subject firm and no shift of production to a foreign source occurred. The denial notice was published in the Federal Register on May 24, 2007 (72 FR 29182).

To support the request for reconsideration, the petitioner supplied additional information to supplement that which was gathered during the initial investigation. Upon further review of the information and a contact with the company official, it was revealed that the subject firm started shifting production of the Lincoln Towncar to Canada during the relevant period and that this shift contributed to the layoffs at the subject firm.

In accordance with section 246 of the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of section 246 have been met.

A significant number of workers at the firm are age 50 or over and possess skills that are not easily transferable. Competitive conditions within the industry are adverse.

Conclusion

After careful review of the facts obtained in the investigation, I determine that there was a shift in production from the workers' firm or subdivision to Canada of articles that are like or directly competitive with those produced by the subject firm or subdivision. In accordance with the provisions of the Act, I make the following certification:

“All workers of Ford Motor Company, Vehicle Operations Division, Wixom Assembly Plant, Wixom, Michigan, who became totally or partially separated from employment on or after April 12, 2006, through two years from the date of this certification, are eligible to apply for adjustment assistance under section 223 of the Trade Act of 1974, and are eligible to apply for alternative trade adjustment assistance under section 246 of the Trade Act of 1974.”

Signed in Washington, DC, this 22nd day of August 2007.
Elliott S. Kushner,
Certifying Officer, Division of Trade Adjustment Assistance.

[FR Doc. E7-17178 Filed 8-29-07; 8:45 am]

BILLING CODE 4510-FN-P